NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before September 23, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail):

Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Acting Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the New Address for Requesting Schedules Using E-Mail)

1. Department of Agriculture, National Agricultural Statistics Service (N1-355-05-1, 1 item, 1 temporary item). Completed 1998 Farm and Ranch Irrigation Survey questionnaires, which were used in a census sampling of farms and ranches in order to obtain irrigation data.

2. Department of the Army, Agency-wide (N1-AU-05-2, 2 items, 2 temporary items). Records relating to aviation accident prevention, including files relating to safety education, awards, and safety information sharing. Also included are electronic copies of records created using electronic mail and word processing. This schedule authorizes the agency to apply the proposed disposition instructions to any recordkeeping medium.

3. Department of the Air Force, Agency-wide (N1-AFU-03-16, 3 items, 3 temporary items). Litigation case files relating to such subjects as civilian employment discrimination, military promotions and benefits, Freedom of Information Act requests, contracts, environmental pollution, land use, and foreign civil matters. Also included are electronic copies of records created using electronic mail and word processing. This schedule provides on-going disposal authority for this series. Records accumulated prior to ca. 1993 were previously approved for disposal.

4. Department of Defense, National Geospatial-Intelligence Agency (N1-537-04-2, 14 items, 9 temporary items). Imagery and intelligence program records accumulated by offices not responsible for the related programs or projects. Also included are electronic copies of documents created using word processing and electronic mail. Proposed for permanent retention are recordkeeping copies of such records as priority files, conference files, and publications as well as studies, requirements, plans, and project files that are maintained by the office assigned functional program responsibility. This schedule authorizes the agency to apply the proposed disposition instructions to any recordkeeping medium.

5. Department of Justice, Bureau of Prisons (N1-129-05-14, 4 items, 4 temporary items). Electronic copies of records created using electronic mail and word processing that are associated with personnel files relating to agency medical staff as well as records relating to National Health Service Corps participants. This schedule also reduces the retention periods for recordkeeping copies of these files, which were previously approved for disposal.

6. Department of Justice, Bureau of Alcohol, Tobacco, Firearms and Explosives (N1-436-05-4, 3 items, 3 temporary items). Files containing contact information for Federal, state, and local chief law enforcement officers maintained in connection with semi-annual notifications of the current firearms licensee population. Also included are electronic copies of documents created using electronic mail and word processing.

7. Department of State, Bureau of Political and Military Affairs (N1-59-05-8, 12 items, 4 temporary items). Tracking and control logs and electronic spreadsheets of the Political-Military Action Team. Also included are electronic copies of records created using electronic mail and word processing. Proposed for permanent retention are recordkeeping copies of substantive records, including situation reports, inter-agency clearance records, and crisis reports.

8. Department of State, Bureau of Educational and Cultural Affairs (N1-59-05-13, 4 items, 4 temporary items). Records accumulated by the Office of the Executive Director relating to managing grants and to the Bureau's day-to-day administrative operations. Also included are electronic copies of records accumulated by this office that are created using electronic mail and word processing.

9. Department of Transportation, Federal Aviation Administration (N1-237-05-4, 4 items, 3 temporary items). Scanned images of records relating to the events of September 11, 2001. Also included are electronic copies of records created using electronic mail and word processing. Proposed for permanent retention are original recordkeeping copies of these records, which include flight strips, maps, charts, radar data, press releases, correspondence, and voice recordings.

10. Department of the Treasury, Bureau of the Public Debt (N1-53-05-2, 12 items, 11 temporary items). Auction files of the Office of Financing, including such records as allotment notices, routine violation files, compliance records, and issue folders. Also included are electronic copies of records created using electronic mail and word processing. Proposed for permanent retention are recordkeeping copies of auction violation files that affect auction policies.

11. Federal Communications Commission, Office of Legislative Affairs (N1-173-03-2, 4 items, 3 temporary items). Paper versions of the chairman's congressional correspondence and paper and electronic versions of congressional correspondence accumulated by bureau and office chiefs. Proposed for permanent retention are electronic versions of the chairman's congressional correspondence.

12. National Archives and Records Administration, Policy and Communications Staff (N1-64-05-5, 12 items, 7 temporary items). Records of the Lifecycle Coordination Staff relating to lifecycle management data standards, especially those related to archival description, records management initiatives, the Electronic Records Archives, and other activities designed to increase the effectiveness of lifecycle processes. Also included are electronic copies of records created using electronic mail and word processing. Proposed for permanent retention are recordkeeping copies of policy documents and project files, charter documents, formal comments/rulings, and meeting minutes.

13. National Archives and Records Administration, Office of Records Services—Washington, DC (N2-15-05-1, 1 item, 1 temporary item). Microfilm copies of Department of Veterans Affairs' Veterans Benefits Administration Forms 10-2593 (Record of Hospitalization), 1918-1957. These records, which lack historical value, were mistakenly accessioned into the National Archives.

14. Small Business Administration, Office of the Chief Information Officer (N1-309-05-18, 4 items, 4 temporary items). Inputs, master files, backups, and documentation associated with an electronic system that is used to assist with migrating changes to agency automated systems.

Dated: July 28, 2005.
Michael J. Kurtz,
Assistant Archivist for Records Services—Washington, DC.

[FR Doc. 05-15667 Filed 8-8-05; 8:45 am]

BILLING CODE 7515-01-P